ENVIRONMENTAL PROTECTION AGENCY

40 CFR Part 52

[EPA-R04-OAR-2009-0612-200914(b); FRL-9155-4]

Approval and Promulgation of Air Quality Implementation Plans: Florida; Approval of Section 110(a)(1) Maintenance Plan for the 1997 8-Hour Ozone Standard for the Jacksonville, Tampa Bay, and Southeast Florida Areas

AGENCY: Environmental Protection Agency (EPA).

ACTION: Proposed rule.

SUMMARY: EPA is proposing to approve revisions to the Florida State Implementation Plan (SIP) concerning the maintenance plans addressing the 1997 8-hour ozone standards for the Jacksonville, Tampa Bay, and Southeast Florida 1997 8-hour ozone attainment areas in Florida, hereafter referred to as the “Jacksonville Area,” “Tampa Bay Area,” and “Southeast Florida Area,” respectively. The Jacksonville Area is comprised of Duval County; the Tampa Bay Area comprises Hillsborough and Pinellas Counties; and the Southeast Florida Area comprises Broward, Dade, and Palm Beach Counties. These maintenance plans were submitted to EPA on July 2, 2009, by the State of Florida, through the Florida Department of Environmental Protection, and ensure the continued attainment of the 1997 8-hour ozone national ambient air quality standards (NAAQS) through the year 2014 in the Jacksonville, Tampa Bay, and Southeast Florida Areas. EPA is proposing to approve the SIP revisions pursuant to section 110 of the Clean Air Act. These maintenance plans appear to meet all the statutory and regulatory requirements, and are consistent with EPA's guidance. On March 12, 2008, EPA issued revised ozone standards. On September 16, 2009, EPA announced it would reconsider the 2008 NAAQS for ozone and proposed a new schedule for designations for a reconsidered standard. EPA published a proposed rulemaking on January 19, 2010, for reconsideration of the 2008 NAAQS, and expects to finalize the reconsidered NAAQS by August 2010. The current proposed action, however, is being taken to address requirements under the 1997 8-hour ozone standards. Requirements for the Jacksonville, Tampa Bay, and Southeast Florida Areas under the 2010 reconsidered ozone standards will be addressed in the future.

DATES: Written comments must be received on or before June 28, 2010.

ADDRESSES: Submit your comments, identified by Docket ID No. EPA-R04-OAR-2009-0612, by one of the following methods:

1. http://www.regulations.gov: Follow the on-line instructions for submitting comments.

2. E-mail: benjamin.lynorae@epa.gov.

3. Fax: (404) 562-9019.

4. Mail: “EPA-R04-OAR-2009-0612,” Regulatory Development Section, Air Planning Branch, Air, Pesticides and Toxics Management Division, U.S. Environmental Protection Agency, Region 4, 61 Forsyth Street, SW., Atlanta, Georgia 30303-8960.

5. Hand Delivery or Courier: Lynorae Benjamin, Chief, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Please see the direct final rule which is located in the Rules section of this Federal Register for detailed instructions on how to submit comments.

FOR FURTHER INFORMATION CONTACT: Twunjala Bradley, Regulatory Development Section, Air Planning Branch, Air, Pesticides and Toxics Management Division, U.S. Environmental Protection Agency, Region 4, 61 Forsyth Street, SW., Atlanta, Georgia 30303-8960. The telephone number is (404) 562-9352. Ms. Bradley can also be reached via electronic mail at bradley.twunjala@epa.gov.

SUPPLEMENTARY INFORMATION: In the Final Rules Section of this Federal Register, EPA is approving the State's SIP revision as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period on this document. Any parties interested in commenting on this document should do so at this time.

List of Subjects in 40 CFR Part 52

Environmental protection, Air pollution control, Intergovernmental relations, Incorporation by reference, Ozone, Nitrogen dioxides, Reporting and recordkeeping requirements, Volatile organic compounds.

Dated: May 11, 2010.
Beverly H. Banister,
Acting Regional Administrator, Region 4.

[FR Doc. 2010-12659 Filed 5-26-10; 8:45 am]

BILLING CODE 6560-50-P